DEPARTMENT OF HEALTH AND HUMAN SERVICES

Health Care Financing Administration

[Document Identifier: HCFA-1965, HCFA-2649, HCFA-5011A & HCFA-5011B]

Agency Information Collection Activities; Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Request for Hearing—Part B Medicare Claim and Supporting Regulations in 42 CFR 405.821; Form No.: HCFA-1965 (0938-0034); Use: Section 1869 of the Social Security Act authorizes a hearing for any individual who is dissatisfied with any determination and amount of benefit paid. This form is used so that a party may request a hearing by a Hearing Officer because the review determination failed to satisfy the appellant. Frequency: Annually, Quarterly and Monthly; Affected Public: Individual or households, and not-for-profit institutions; Number of Respondents: 55,000; Total Annual Responses: 55,000, Total Annual Hours: 9,167.

2. Type of Information Collection Request: Extension of a currently approved collection; Title of Information Collection: Request for Reconsideration of Part A Insurance Benefits and Supporting Regulations in 42 CFR 405.711; Form No.: HCFA-2649 (0938-0045); Use: Section 1869 of the Social Security Act authorizes a hearing for any individual who is dissatisfied with the intermediary's Part A determination or the benefit amount paid. This form is used by a party to request a reconsideration of the initial determination of benefits. Frequently: Annually, quarterly and monthly; Affected Public: Individuals or households, and not-for-profit institutions; Number of Respondents: 62,000; Total Annual Responses: 62,000; Total Annual Hours: 15,500.

3. Type of Information Collection Request: Extension of a currently approved collection; Title of Information Collection: Request for Part A Medicare Hearing by an Administrative Law Judge and Supporting Regulations in 42 CFR 498 Subpart D and E; Form No.: HCFA-5011A-U6 (0938-0486); Use: Section 1869 of the Social Security Act authorizes a hearing for any individual who is dissatisfied with the intermediary's Part A determination or the amount paid. This form is used by the beneficiary or other qualified appellant to request a hearing by an Administrative Law Judge is the reconsideration determination fails to satisfy the appellant. Frequency: Annually, Quarterly and Monthly; Affected Public: Individuals or households, and not-for-profit institutions; Number of Respondents: 10,000; Total Annual Responses: 10,000; Total Annual Hours: 2,500.

4. Type of Information Collection Request: Extension of a currently approved collection; Tital of Information Collection: Request for Part B Medicare Hearing by an Administrative Law Judge and Supporting Regulations in 42 CFR 498 Subpart D and E; Form No.: HCFA-5011B-U6 (0938-0567); Use: Section 1869 of the Social Security Act authorizes a hearing for any individual who is dissatisfied with the carrier's Part B determination or the amount paid. This form is used by the beneficiary or other qualified appellant to request a hearing by an Administrative Law Judge if the hearing officer's decision fail's to satisfy the appellant. Frequency: Annually, quarterly and monthly; Affected Public: Individuals or households, and not-for-profit institutions; Number of Respondents: 10,000; Total Annual Responses: 10,000; Total Annual Responses: 10,000; Total Annual Hours: 2,500.

To obtain copies of the supporting statement and any related forms for the proposed paperwork collections referenced above, access HCFA's Web Site address at http://www.hcfa.gov/regs/prdact95.htm, or E-mail your request, including your address, phone number, OMB number, and HCFA document identifier, to Paperwork@hcfa.gov. or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, Room N2-14-26, 7500 Security Boulevard, Baltimore, Maryland 21244-1850.

Dated: May 25, 2000.
John P. Burke, III,
HCFA Reports Clearance Officer, HCFA Office of Information Services, Security and Standards Group, Division of HCFA Enterprise Standards.

[FR Doc. 00-13860 Filed 6-1-00; 8:45 am]

BILLING CODE 4120-03-U